DEPARTMENT OF LABOR

Employment and Training Administration

[TA-W-63,344]

General Motors Corporation, Moraine Assembly Plant, Vehicle Manufacturing Division, Including On-Site Leased Workers from Allied Systems, LTD, Moraine, Ohio; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 5, 2008, applicable to workers of General Motors Corporation, Moraine Assembly Plant, Vehicle Manufacturing Division, Moraine, Ohio. The notice was published in the Federal Register on June 20, 2008 (73 FR 35164).

At the request of the International Brotherhood of Teamsters, Local 957, the Department reviewed the certification for workers of the subject firm. The workers assemble Buick Rainiers, Chevrolet TrailBlazers, GMC Envoys, Isuzu Ascenders and Saab 9-7Xs.

New information shows that workers leased from Allied Systems, LTD were employed on-site at the Moraine, Ohio location of General Motors Corporation, Moraine Assembly Plant, Vehicle Manufacturing Division. The Department has determined that these workers were sufficiently under the control of the subject firm to be considered leased workers.

Based on these findings, the Department is amending this certification to include leased workers from Allied Systems, LTD working on-site at the Moraine Assembly Plant, Vehicle Manufacturing Division, Moraine, Ohio location of the subject firm.

The amended notice applicable to TA-W-63,344 is hereby issued as follows:

“All workers of General Motors Corporation, Moraine Assembly Plant, Vehicle Manufacturing Division, including on-site leased workers from Allied Systems, LTD, Moraine, Ohio, who became totally or partially separated from employment on or after June 17, 2008, through June 5, 2010, are eligible to apply for adjustment assistance under Section 223 of the Trade Act of 1974, and are also eligible to apply for alternative trade adjustment assistance under Section 246 of the Trade Act of 1974.”

Signed at Washington, DC, this 4th day of December 2008.
Richard Church,
Certifying Officer, Division of Trade Adjustment Assistance.

[FR Doc. E8-29610 Filed 12-12-08; 8:45 am]

BILLING CODE 4510-FN-P